ENVIRONMENTAL PROTECTION AGENCY

40 CFR Part 52

[IN105-1b; FRL-6720-1]

Approval and Promulgation of Implementation Plan; Indiana

AGENCY: Environmental Protection Agency (EPA).

ACTION: Proposed rule.

SUMMARY: EPA is proposing to approve Indiana's State Implementation Plan (SIP) revision request to control emissions of volatile organic compounds (VOCs) from steel mill sinter plants in Lake and Porter Counties. The Indiana Department of Environmental Management (IDEM) submitted the SIP revision request on April 6, 1999. The revision applies to integrated steel mills and provides for seasonal limits on emissions of VOCs. VOC emissions are a precursor of ground-level ozone, commonly known as smog. High ozone levels are detrimental to human health and contribute to upper respiratory ailments such as asthma. In the Final Rules section of this Federal Register, EPA is approving as described herein, the State's SIP revision, as a direct final rule without prior proposal because the Agency views this as a noncontroversial revision and anticipates no adverse comments. A detailed rationale for the approval is set forth in the direct final rule. If we receive no adverse comments in response to that direct final rule we plan to take no further activity in relation to this proposed rule. If EPA receives significant adverse comments, in writing, which have not been addressed, we will withdraw the direct final rule and address all public comments received in a subsequent final rule based on this proposed rule. The EPA will not institute a second comment period on this document.

DATES: EPA must receive written comments by August 4, 2000.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604.

FOR FURTHER INFORMATION CONTACT: Francisco J. Acevedo, Environmental Protection Specialist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What action is EPA taking today?

II. Where can I find more information about this proposal and the corresponding direct final rule?

I. What Action Is EPA Taking Today?

We are proposing to approve Indiana's rule IAC 8-plants in Lake and Porter Counties. Our approval makes the Indiana sinter plant rules part of the federally enforceable SIP.

II. Where Can I Find More Information About This Proposal and the Corresponding Direct Final Rule?

For additional information see the direct final rule published in the rules section of this Federal Register.

Dated: June 12, 2000.
David A. Ullrich,
Acting Regional Administrator, Region 5.

[FR Doc. 00-16071 Filed 7-3-00; 8:45 am]

BILLING CODE 6560-50-P